ENVIRONMENTAL PROTECTION AGENCY

[EPA-HQ-OW-2025-0125; FRL-12585-01-OW]

Agency Information Collection Activities; Proposed Information Collection Request; Comment Request; The U.S. Environmental Protection Agency's WaterSense® Program (Renewal)

AGENCY: Environmental Protection Agency (EPA).

ACTION: Notice.

SUMMARY: The Environmental Protection Agency (EPA) is planning to submit an information collection request (ICR), the U.S. Environmental Protection Agency's (EPA's) WaterSense® Program (Renewal) (EPA ICR Number 2233.09, OMB Control Number 2040-0272) to the Office of Management and Budget (OMB) for review and approval in accordance with the Paperwork Reduction Act (PRA). Before doing so, EPA is soliciting public comments on specific aspects of the proposed information collection as described below. This is a request for approval of a new collection. This document allows for 60 days for public comments.

DATES: Comments must be submitted on or before May 27, 2025.

ADDRESSES: Submit your comments, referencing Docket ID Number EPA-HQ-OW-2025-0125 to EPA online using https://www.regulations.gov (our preferred method); by email to OW-Docket@epa.gov; or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Kersey Manliclic, WaterSense Branch, Water Infrastructure Division, Office of Wastewater Management, Office of Water (Mail Code 4204M), Environmental Protection Agency, 1200 Pennsylvania Ave. NW, Washington, DC 20460; telephone number: (202) 566-9981; email address: manliclic.kersey@epa.gov.

SUPPLEMENTARY INFORMATION: This is a request for renewal of an existing collection. An agency may not conduct or sponsor and a person is not required to respond to a collection of information unless it displays a currently valid OMB control number.

This document allows 60 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register document to announce the submission of the ICR to OMB and the opportunity to submit additional comments to OMB.

Abstract: WaterSense is a voluntary program designed to create self-sustaining markets for water-efficient products and services via a common label. Data collected under this ICR will help WaterSense demonstrate results and carry out evaluation efforts to ensure continual program improvement. In addition, data will help the EPA assess consumer satisfaction with labeled products, monitor market penetration, and inform future product categories and specifications.

This ICR will cover a few areas of the program including:

• Product specification development relies on input from consumers and manufacturers;

• Program partners are asked to submit an Annual Reporting Form to inform the EPA of their program-related activities. The EPA uses the information collected to track the progress of the program in transforming the market for water-efficient products and practices, to provide information on WaterSense labeled water-efficient products and services to consumers, and to recognize partner accomplishments;

• Program partners can voluntarily submit additional information to be considered for annual recognition as well as recognition of water conservation achievements, innovations, events, etc. online;

• To assess progress in educating consumers about the WaterSense program, the EPA may conduct a brief Consumer Awareness Survey and/or “Pulse Surveys” of a sample of consumers during the next three years. The purpose of these surveys will be to obtain information at the national level and/or regional level on consumer awareness and the understanding of WaterSense.

All shipment and sales data submitted by WaterSense manufacturer and retailer/distributor partners are collected as CBI. EPA's contractor is currently managing CBI collected on this project using the procedures outlined in the contractor's CBI security plan entitled Security Plan for Handling Confidential Business Information Under the Clean Water Act. Project staff are trained in CBI-handling procedures, as outlined in this plan. Only staff demonstrating their understanding of CBI handling procedures by passing a written test will be permitted access to CBI. EPA will ensure that any future or additional direct contractor will have procedures in place for managing CBI.

Form numbers: * Forms not yet finalized in italics.

Partnership Agreement

• Builders 6100-19

• Licensed Certification Providers 6100-20

• Manufacturers 6100-13

• Professional Certifying Organizations 6100-07

• Promotional Partners 6100-06

• Retailers/Distributors 6100-12

Application for Professional Certifying Organization Approval

• Application for Professional Certifying Organization Approval 6100-XX

Annual Reporting Form

• Builders 6100-09

• Professional Certifying Organizations 6100-09

• Promotional Partners 6100-09

Annual Reporting Form—Online and Hard-Copy Confidential Business Information (CBI) Forms

• Plumbing Manufacturers 6100-09

• Non-plumbing Manufacturers 6100-09

• Retailers/Distributors 6100-09

Award Application Form

• Builders 6100-17

• Licensed Certification Providers 6100-17

• Manufacturers 6100-17

• Professional Certifying Organizations 6100-17

• Promotional Partners 6100-17

• Retailers/Distributors 6100-17

Consumer Awareness Survey

• Consumer Awareness Survey 6100-XX

Partner Success Stories

• Partners in Action “Share My Story” Form 6100-XX

Landscape Transformation Stories

• Landscape Transformation Story Map form 6100-XX

Partner Events

• Event Notification Form 6100-XX

Respondents/affected entities: Respondents will consist of WaterSense partners, participants in the consumer survey/pulse surveys, and stakeholders that voluntarily submit information (e.g., landscape transformation information). WaterSense partners include product manufacturers; professional certifying organizations; retailers; distributors; utilities; federal, state, and local government; home builders; licensed certification providers; NGOs; and trade associations. Non-partner respondents will not have NAICS codes as they will be randomly sampled citizens.

Respondent's obligation to respond: Voluntary.

Estimated number of respondents: 1,224 (total per year).

Frequency of response: Once a prospective partner organization reviews WaterSense materials and decides to join the program, it will submit the appropriate Partnership Agreement for its partnership category (this form is only submitted once). Professional Certifying Organizations must include additional documentation to begin their partnership by completing an Application for Professional Certifying Organization Approval (this form is only submitted once). Each year, the EPA also asks partners to submit an Annual Reporting Form and Awards Application (voluntarily at the partner's discretion). The EPA also may conduct one Consumer Awareness Surveys over the three-year period of the ICR as well as ad hoc “Pulse Surveys” of the market. Partners can voluntarily submit information regarding their success stories or events at any time in the year. Partners/stakeholders can voluntarily submit information regarding their landscape transformation efforts at any time in the year.

Total estimated burden: 8,710 hours (per year for both respondents and EPA). Burden is defined at 5 CFR 1320.03(b).

Total estimated cost: $989,335 (per year for both respondents and EPA), which includes $2,415 annualized capital or operation & maintenance costs.

Changes in the estimates: There is an increase of 1,949 hours in the total estimated respondent burden compared with the ICR currently approved by OMB. This is due to the following factors:

• The labor rates were updated and respondent burden hours reflect feedback from this round of ICR consultations.

• WaterSense added a few new forms that require minimal time for respondents to complete—e.g., the program also added forms designed to collect successful landscaping stories, case studies/success stories, and events.

• An actual consumer awareness survey had been conducted since the last ICR. Insights regarding that burden are reflected in this ICR.

Andrew D. Sawyers,
Director, Office of Wastewater Management.

[FR Doc. 2025-05341 Filed 3-27-25; 8:45 am]

BILLING CODE 6560-50-P